DEPARTMENT OF THE TREASURY

Submission for OMB Review; Comment Request

December 26, 2006.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before February 5, 2007 to be assured of consideration.

Internal Revenue Service (IRS)

OMB Number: 1535-0120.

Type of Review: Revision.

Title: FHA New Account Request, Transaction Request, and Transfer Request.

Form: BPD form 5366, 5354 and 5367.

Description: Used to establish account, change information on account, and transfer ownership.

Respondents: Individuals or households.

Estimated Total Burden Hours: 50 hours.

Clearance Officer: Vicki S. Thorpe, (304) 480-8150, Bureau of the Public Debt, 200 Third Street, Parkersburg, West Virginia 26106.

OMB Reviewer: Alexander T. Hunt, (202) 395-7316, Office of Management and Budget, Room 10235, New Executive Office Building, Washington, DC 20503.

Michael A. Robinson,
Treasury PRA Clearance Officer.

[FR Doc. E6-22551 Filed 1-3-07; 8:45 am]

BILLING CODE 4810-39-P